DEPARTMENT OF LABOR

Employment and Training Administration

[TA-W-38,900]

Borg Warner Air/Fluid Systems Corporation, Water Quality Valley, MS; Notice of Negative Determination on Reconsideration

On October 29, 2001, the Department issued an Affirmative Determination Regarding Application for Reconsideration for the workers and former workers of the subject firm. The notice will soon be published in the Federal Register.

The Department initially denied TAA to workers of Borg Warner Air/Fluid Systems Corporation, Water Valley, Mississippi based on criterion (2) of the group eligibility requirements of section 222 of the Trade Act of 1974, as amended, not being met. The workers at the subject firm were engaged in employment related to the production of transmission control solenoids, transmission control modules, throttle bodies, and air suspension control solenoids.

The petitioner indicated that the Department of Labor reviewed the wrong sales and production period. The petitioner also indicated that the layoffs pertaining to the original investigation were the direct result of anticipated reduced orders from the subject firm's major customer. The petitioner further indicated that increased imports of automobiles reduced the demand for the customers' products and in turn the customer reduced their purchases from the subject plant.

The Department, upon the request of the petitioner, acquired additional subject plant sales and production data for an additional portion of the relevant period. That data were not available during the initial investigation. The additional data obtained from the company depict increases in plant sales and production.

The petitioner's statement regarding reduced orders by their major customer is not relevant unless declines in sales and production occur during the period of the investigation. Since plant sales and production increased during the scope of the initial investigation, criterion 2 of the group eligibility requirement was not met. If these conditions changed since the initial decision, the petitioners are encouraged to reapply for TAA group eligibility.

The petitioner's statements that increased import competition of automobiles may have impacted the customer of the subject firm is not a relevant factor to the petition that was filed on behalf of workers producing components for automobiles at the subject plant. The products imported must be like and directly competitive with those products produced at the subject firm to meet the “contributed importantly” criterion.

Conclusion

After reconsideration, I affirm the original notice of negative determination of eligibility to apply for worker adjustment assistance for workers and former workers of Borg Warner Air/Fluid Systems Corporation, Water Valley, Mississippi.

Signed at Washington, DC this 13th day of November 2001.
Edward A. Tomchick,
Director, Division of Trade Adjustment Assistance.

[FR Doc. 01-30065 Filed 12-4-01; 8:45 am]

BILLING CODE 4510-30-M